SMALL BUSINESS ADMINISTRATION

[Declaration of Disaster #3429]

State of Indiana; Disaster Loan Areas

Allen County and the contiguous counties of Adams, DeKalb, Huntington, Noble, Wells and Whitley in the State of Indiana; and Defiance, Paulding and Van Wert Counties in the State of Ohio constitute a disaster area due to damages caused by severe thunderstorms, hail and wind that occurred on June 26, 2002. Applications for loans for physical damage as a result of this disaster may be filed until the close of business on September 6, 2002, and for economic injury until the close of business on April 8, 2003, at the address listed below or other locally announced locations:

Small Business Administration, Disaster Area 2 Office, One Baltimore Place, Suite 300, Atlanta, GA 30308.

The interest rates are:

|  | Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury: Businesses and small agricultural cooperatives without credit available elsewhere | 3.500

The number assigned to this disaster for physical damage is 342911 for Indiana and 343011 for Ohio.

The number assigned to this disaster for economic injury is 9Q5200 for Indiana and 9Q5300 for Ohio.

(Catalog of Federal Domestic Assistance Program Nos. 59002 and 59008)
Dated: July 8, 2002.
Hector V. Barreto,
Administrator.

[FR Doc. 02-18156 Filed 7-17-02; 8:45 am]

BILLING CODE 8025-01-P